NATIONAL SCIENCE FOUNDATION

Proposal Review Panel for Physics; Notice of Meeting

In accordance with the Federal Advisory Committee Act (Pub. L. 92-463, as amended), the National Science Foundation (NSF) announces the following meeting:

Name and Committee Code: LIGO Annual Review of Operations for the Division of Physics (1208).

Date and Time: June 15-16, 2021; 10:30 a.m.-5:30 p.m. each day.

Place: NSF, 2415 Eisenhower Avenue, Alexandria, VA 22314 | Virtual.

Type of Meeting: Part-Open.

Contact Person: Mark Coles, Program Director, Division of Physics, National Science Foundation, 2415 Eisenhower Avenue, Room 9219, Alexandria, VA 22314; Telephone: (703) 292-4432.

Purpose of Meeting: Virtual site visit to provide an evaluation of the progress of the projects at the host site for the Division of Physics at the National Science Foundation.

Agenda

Agenda (all times Eastern Daylight Time [EDT]): NSF will provide the Zoom coordinates for each meeting:

June 15 (Tuesday)

10:30 a.m.-11:00 a.m. Executive Session (Closed)

11:00 a.m.-5:00 p.m. Presentations by LIGO (with breaks)

5:00 p.m.-5:30 p.m. Executive Session (Closed)

June 16 (Wednesday)

10:30 a.m.-11:00 a.m. Executive Session (Closed)

11:00 a.m.-3:00 p.m. Homework reporting, presentations, breakouts, with breaks

3:00 p.m.-4:30 p.m. Executive Session (Closed)

4:30 p.m.-5:30 p.m. Closeout report by panel

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: April 22, 2021.
Crystal Robinson,
Committee Management Officer.

[FR Doc. 2021-08753 Filed 4-26-21; 8:45 am]

BILLING CODE 7555-01-P